DEPARTMENT OF AGRICULTURE

Forest Service

Rogue-Umpqua Resource Advisory Committee

AGENCY: Forest Service, USDA.

ACTION: Notice of meeting.

SUMMARY: The Rogue-Umpqua Resource Advisory Committee will meet in Roseburg, Oregon. The committee is meeting as authorized under the Secure Rural Schools and Community Self-Determination Act (Pub. L. 110-343) and in compliance with the Federal Advisory Committee Act. The purpose of the meeting is review and recommend projects for funding in fiscal year 2011.

DATES: The meeting will be held Tuesday, July 13, 2011, 9:30 a.m. to 5 p.m., and on Wednesday, July 14, 2011, 8 a.m. to 3:45 p.m.

ADDRESSES: The meeting will be held at 2900 NW Stewart Parkway, Roseburg, OR, in the Umpqua National Forest Supervisor's Office. Written comments should be sent to 2900 NW. Stewart Parkway, Roseburg, OR 97471. Comments may also be sent via e-mail to ccaplan@fs.fed.us, or via facsimile to 541-957-3405.

All comments, including names and addresses when provided, are placed in the record and are available for public inspection and copying. The public may inspect comments received at the Umpqua National Forest Supervisor's Office. Visitors are encouraged to call ahead to 541-672-6601 to facilitate entry into the building.

FOR FURTHER INFORMATION CONTACT: Cheryl Caplan, Public Affairs Officer, Umpqua National Forest, 541-957-3270, ccaplan@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public. On Tuesday, the following business will be conducted: 9:45 a.m.—Election of RAC Chair, 10:15 a.m.—Status Update on FY09 and FY10 Title II Projects, 11 a.m.—Public Forum, 11:30 a.m.—Review of Douglas County Projects, 4 p.m.—Voting on Douglas County Projects, and 5 p.m.—Adjourn.

On Wednesday, the following business will be conducted: 8 a.m.—Meeting Opens, 8:10 a.m.—Public Forum, 8:40 a.m.—Review of Lane County Projects, 9:40 a.m.—Voting on Lane County Projects, 10:45 a.m.—Review of Klamath County Projects, 11:35 a.m.—Voting on Klamath County Projects, 1 p.m.—Review of Jackson County Projects, 2:45 p.m.—Voting on Jackson County Projects, 3:15—Critique and Monitoring Discussion, 3:45 p.m.—Adjourn.

Persons who wish to bring related matters to the attention of the Committee may file written statements with the Committee staff before or after the meeting. Public input sessions will be provided and individuals who made written requests by July 13, 2010, will have the opportunity to address the Committee at those sessions.

Dated: June 21, 2010.
Clifford J. Dils,
Umpqua National Forest Supervisor.

[FR Doc. 2010-15611 Filed 6-28-10; 8:45 am]

BILLING CODE 3410-11-M